DEPARTMENT OF COMMERCE

International Trade Administration

[A-834-807]

Silicomanganese from Kazakhstan: Rescission of Antidumping Duty Administrative Review

AGENCY: Import Administration, International Trade Administration, U.S. Department of Commerce.

ACTION: Notice of Rescission of the Antidumping Duty Administrative Review.

SUMMARY: On July 1, 2003, in response to a request made by Considar, an importer of the subject merchandise, the Department of Commerce (“Department”) published a notice of initiation of an antidumping duty administrative review of silicomanganese from Kazakhstan, for the period of review (“POR”) November 9, 2001 through April 30, 2003. Because Considar has withdrawn its request for review, and there were no other requests for review for this time period, the Department is rescinding this review in accordance with 19 CFR 351.213(d)(1).

EFFECTIVE DATE: October 21, 2003.

FOR FURTHER INFORMATION CONTACT: James C. Doyle, Enforcement Group III, Office 9, Import Administration, International Trade Administration, U.S. Department of Commerce, 1401 Constitution Avenue, N.W., Washington, D.C. 20230; telephone: 202-482-0159.

SUPPLEMENTARY INFORMATION:

Background

On February 28, 2003, Considar, an exporter of the subject merchandise, requested that the Department conduct an administrative review of its sales for the period November 9, 2001 through April 30, 2003. Considar was the only interested party to request a review for this time period. On July 1, 2003, the Department published a notice of initiation of the antidumping administrative review of silicomanganese from Kazakhstan, in accordance with 19 CFR 351.221(c)(1)(i). See Initiation of Antidumping and Countervailing Duty Administrative Reviews and Requests for Revocations in Part, 68 FR 39055 (July 1, 2003). On July 17, 2003, the Department amended the initiation notice. See Notice of Initiation of Antidumping and Countervailing Duty Administrative Reviews and Request for Revocation in Part; Correction, 68 FR 42373 (July 17, 2003). On September 29, 2003, Considar withdrew its request for review.

Rescission of Review

Pursuant to the Department's regulations, the Department will rescind an administrative review “if a party that requested the review withdraws the request within 90 days of the date of publication of notice of initiation of the requested review.” See 19 CFR 351.213(d)(1). Considar, the only interested party to request an administrative review for this time period, withdrew its request for this review within the 90-day time limit; accordingly, we are rescinding the administrative review for the period November 9, 2001 through April 30, 2003, and will issue appropriate assessment instructions to the U.S. Bureau of Customs and Border Protection.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Tariff Act of 1930, as amended.

Dated: October 14, 2003.
James J. Jochum,
Assistant Secretary for Import Administration.

[FR Doc. 03-26534 Filed 10-20-03; 8:45 am]

BILLING CODE 3510-DS-S